DEPARTMENT OF VETERANS AFFAIRS

AR16—Notice of Listening Sessions on the Department of Veterans Affairs Staff Sergeant Parker Gordon Fox Suicide Prevention Grant Program

AGENCY: Department of Veterans Affairs.

ACTION: Announcement for Public Meetings.

SUMMARY: The Department of Veterans Affairs (VA) will be holding two public virtual listening sessions to seek input on implementing the requirements of section 201 of the Commander John Scott Hannon Veterans Mental Health Care Improvement Act of 2019. The Act mandates VA to establish the Staff Sergeant Parker Gordon Fox Suicide Prevention Grant Program (SSG Fox SPGP) to reduce Veteran suicide through a 3-year community-based grant program that would provide financial assistance to eligible entities to provide or coordinate providing suicide prevention services to eligible Veterans and their families. VA is required to consult with certain entities related to administering this new grant program. VA previously published a request for information on April 1, 2021, seeking written comments from these entities to help inform VA's development of the SSG Fox SPGP and its implementing regulations. These public virtual listening sessions serve as additional means for VA to consult with these same entities.

DATES: VA will hold the first public virtual listening session on May 25, 2021, and the second public virtual listening session on May 26, 2021. Each meeting will start at 10:00 a.m. and conclude on or before 5:00 p.m. Eastern Standard Time (EST). There will be limited space for participants to speak at the public virtual listening sessions. To accommodate as many speakers as possible, participants will have no more than 20 minutes to provide oral comments, testimonies and/or technical remarks. More concise contributions are also welcome. The exact time allotted will vary based on the number of participants registered and selected to speak.

The sessions will be held virtually as a WebEx Event, and it will be open to the public to listen. Information about the meeting and registration to speak or listen can be obtained by emailing VASSGFoxGrants@va.gov.

Virtual attendance will be limited to 1,000 registrants. Advanced registration for individuals and groups is strongly encouraged (see registration instructions below). Individuals or groups who seek to speak must pre-register by May 19, 2021, at 4:00 p.m. EST. Speakers must virtually check-in between 9:00 a.m. and 9:45 a.m. EST to test their WebEx access and resolve any platform issues.

FOR FURTHER INFORMATION CONTACT: Juliana Hallows, Associate Director for Policy and Planning—Suicide Prevention Program, Office of Mental Health and Suicide Prevention (OMHSP), 11MHSP, 810 Vermont Avenue NW, Washington, DC 20420, 202-266-4653. (This is not a toll-free telephone number.)

SUPPLEMENTARY INFORMATION:

Background

Section 201 of the Commander John Scott Hannon Veterans Mental Health Care Improvement Act of 2019 (the Act), Public Law 116-171, enacted on October 17, 2020, requires VA to create a new community-based suicide prevention grant program to reduce Veteran suicide. Section 201 authorizes the award of grants for no more than $750,000 per grantee per fiscal year to eligible entities to provide or coordinate providing suicide prevention services to eligible individuals and their families. An eligible individual is a person at risk of suicide who is a Veteran as defined in 38 U.S.C. 101, an individual described in 38 U.S.C. 1720I(b) or an individual described in 38 U.S.C. 1712A(a)(1)(C)(i)-(iv).

Consultation With Interested Parties

In administering the SSG Fox SPGP, VA is required to consult with certain entities to:

1. Establish the criteria for selecting eligible entities that have submitted applications;

2. Develop a framework for collecting and sharing information about eligible entities receiving grants; and

3. Develop the measures and metrics eligible entities receiving grants will use to determine the effectiveness of programming provided to improve mental health status, well-being and reduce suicide risk and deaths by suicide.

VA is also required to consult with entities in developing a plan for the design and implementing the provision of grants, including criteria for awarding such grants, and on non-traditional and innovative approaches and treatment practices. The Act requires VA to specifically consult with the following entities: (1) Veterans Service Organizations; (2) National organizations representing potential community partners in providing supportive services to address the needs of Veterans and their families, including national organizations that advocate for the needs of individuals with or at risk of behavioral health conditions as well as national organizations representing mayors, unions, first responders, chiefs of police and sheriffs, governors, a territory of the United States or representing a Tribal alliance; (3) National organizations representing members of the Armed Forces; (4) National organizations representing counties; (5) Organizations with which VA has a current memorandum of agreement or understanding related to mental health or suicide prevention; (6) State Departments of Veterans Affairs; (7) National organizations representing members of the Reserve Components of the Armed Forces; (8) National organizations representing members of the Coast Guard; (9) Organizations, including institutions of higher education, with experience in creating measurement tools for purposes of advising the Secretary on the most appropriate existing measurement tool or protocol for VA to utilize; (10) The National Alliance on Mental Illness; (11) a labor organization (as such term is defined in 5 U.S.C. 7103(a)(4)); (12) The Centers for Disease Control and Prevention (CDC), the Substance Abuse and Mental Health Services Administration and PREVENTS; and (13) Such other organizations as the Secretary deems appropriate.

On April 1, 2021, VA published a request for information in the Federal Register seeking input from these groups and entities. See 86 FR 17268.

These public virtual listening sessions serve as an additional means for VA to consult with these entities. Responses will be used to inform development of the SSG Fox SPGP and its implementing regulations. Oral comment, testimonies and technical remarks are encouraged to be concise and directed toward specific virtual public listening session topics. Please note that VA will not respond to comments or other questions regarding policy plans, decisions or issues regarding this notice.

Comments received in response to this notice will be evaluated and, as appropriate, incorporated into a proposed rulemaking for grants under this law.

Registration

Individual registration: VA encourages individual registrations for those not affiliated with or representing a group, association or organization.

Group registration: Identification of the name of the group, association or organization should be indicated in your registration request. Due to virtual platform meeting limitations of WebEx and the statutory mandate that VA consult with certain entities, VA may select certain entities to speak or may limit the size of a group's registration to allow receipt of testimonies and/or technical remarks from a broad, diverse group of stakeholders. Oral comments, testimonies and/or technical remarks may be limited from a group, association or organization to no more than two (2) individuals representing the same group, association or organization. Efforts will be made to accommodate all attendees who wish to participate. However, VA will give priority to representatives of the stakeholders enumerated in the statute who request registration before May 19, 2021, 4:00 p.m. EST, and wish to provide oral comments, testimonies and/or technical remarks. The length of time allotted for participants to provide oral comments, testimonies and/or technical remarks during the meeting will be no more than 20 minutes and is subject to the total number of participants speaking, to ensure time is allotted to selected registered speakers. There will be no opportunity for audio-visual presentations during the meeting.

Audio (For listening purposes only): Limited to the first 200 participants, on a first-come, first-served basis. Advanced registration is not required. Audio attendees will not be allowed to offer oral comments, testimonies and/or technical remarks as the phone line will be muted.

Note: Should it be necessary to cancel the meeting due to technical issues or other emergencies, VA will take available measures to notify registered participants. VA will conduct the public meeting informally, and technical rules of evidence will not apply. VA will arrange for a written transcript of the meeting and keep the official record open for 15 days after the meeting to allow submission of supplemental information. You may make arrangements for copies of the transcript directly with the reporter, and the transcript will also be posted in the docket of the rule as part of the official record when the rule is published.

Each listening session will focus on specific virtual public listening session topics described in this notice and specified in the following Agenda:

Listening Session 1

Virtual Public Listening Session 1 Topics (May 25, 2021)

A. Distribution and Selection of Grants

B. Administration of Grant Program

C. Training and Technical Assistance

Agenda

09:00-10:00 Speaker Virtual Check-In

10:00-12:00 Morning Public Meeting Session

12:00-13:00 Break

13:00-17:00 Afternoon Public Meeting Session

17:00 Adjourn

Listening Session 2

Virtual Public Listening Session 2 Topics (May 26, 2021)

D. Referral for Care

E. Risk of Suicide

F. Suicide Prevention Services

Agenda

09:00-10:00 Arrival/Check-In

10:00-12:00 Morning Public Meeting Session

12:00-13:00 Break

13:00-17:00 Afternoon Public Meeting Session

17:00 Adjourn

Virtual Public Listening Session Topics

To design and implement the SSG Fox SPGP consistent with, and pursuant to, section 201 of the Act, the Secretary seeks information on the topics and issues listed below. Commenters do not need to address every question and should focus on those that relate to their expertise or perspectives. To the extent possible, please clearly indicate which topics and issues you address in your response.

Virtual Public Listening Session 1: May 25, 2021

A. Distribution and Selection of Grants (Section 201(d)(h)(1) of the Act)

1. What criteria should VA establish for the selection of eligible entities that have submitted applications under the SSG Fox SPGP?

2. Pursuant to the Act, the Secretary shall give preference to eligible entities that have demonstrated the ability to provide or coordinate suicide prevention services. How should VA weigh evidence of demonstrated ability to provide or coordinate suicide prevention services, in giving preference to eligible entities that have demonstrated such ability?

B. Administration of Grant Program: Development of Measures and Metrics (Section 201(h)(2) of the Act)

1. How should VA collect and share information about entities in receipt of grants under the SSG Fox SPGP?

2. How can shared information about entities be used to improve the provision or coordination of suicide prevention services for eligible individuals and families?

3. What measures and metrics should eligible entities, who are in receipt of grants under the SSG Fox SPGP, use to determine the effectiveness of the programs they are providing?

4. What existing measurements, tool or protocols are available to determine program effectiveness? Which of these should be used for purposes of measuring effectiveness of programs provided through this grant program?

C. Training and Technical Assistance (Section 201(g) of the Act)

Section 201(g) of the Act provides that the Secretary, in coordination with CDC, shall provide training and technical assistance to grant recipients. The required training and technical assistance will cover suicide risk identification and management, data required to be collected and shared with VA, the means of data collection and sharing, use of tools to be used to measure the effectiveness of the grants and the reporting requirements. The Secretary may provide the training and technical assistance directly or through grants or contracts with appropriate public or nonprofit entities.

1. What training and technical assistance programs and tools currently exist for the specified subject areas described above that could be utilized by VA?

2. What data collection tools and training currently exist for the specified subject areas that could be utilized by VA?

3. What tools and training currently exist for measuring the effectiveness of grants that could be utilized by VA?

4. What tools and training currently exist for managing reporting requirements that could be utilized by VA?

5. Should VA provide training and/or technical assistance directly, through grants or contracts with appropriate public or nonprofit entities, or a combination of both?

Virtual Public Listening Session 2: May 26, 2021

D. Referral for Care (Section 201(m) of the Act)

Section 201(m) of the Act provides that if an eligible entity in receipt of a grant under the SSG Fox SPGP determines that an eligible individual is at risk of suicide or other mental or behavioral health condition pursuant to a baseline mental health screening conducted under subsection (q)(11)(A)(ii) of the Act with respect to the individual, the entity shall refer the eligible individual to VA for additional care under subsection (n) of the Act or any other provision of law. Section 201(m) of the Act also provides that if an eligible entity in receipt of a grant under the SSG Fox SPGP determines that an eligible individual furnished clinical services for emergency treatment under subsection (q)(11)(A)(iv) of the Act requires ongoing services, the entity shall refer the eligible individual to VA for additional care under subsection (n) of the Act or any other provision of law.

1. When an eligible entity in receipt of a grant under the SSG Fox SPGP determines that an eligible individual is at risk of suicide or other mental or behavioral health condition pursuant to a qualifying baseline mental health screening, by what mechanism should the eligible entity refer the eligible individual to VA for additional care?

2. When an eligible entity in receipt of a grant under the SSG Fox SPGP determines that an eligible individual furnished clinical services for emergency treatment requires ongoing services, by what mechanism should the eligible entity refer the eligible individual to VA for additional care?

3. How should referrals to VA for additional care be tracked and reported by eligible entities?

E. Risk of Suicide

Section 201(q)(8) of the Act directs the Secretary to determine by regulation the degrees of risk of suicide using health, environmental and historical risk factors enumerated in section 201(q)(8)(A)(i)-(iii). Section 201(q)(8) also provides that the Secretary may, through regulation, establish a process for determining the degrees of risk of suicide for use by grant recipients to focus the delivery of suicide prevention services.

1. What degree(s) of exposure to, or the existence of, the health, environmental and historical risk factors enumerated in section 201(q)(8)(A)(i)-(iii) should VA utilize in determining degrees of risk of suicide?

2. What process should VA establish for use by grant recipients in determining the degrees of risk of suicide to focus the delivery of services using grant funds?

F. Suicide Prevention Services

Section 201(q)(11)(A)(x) of the Act notes that suicide prevention services includes non-traditional and innovative approaches and treatment practices, as determined appropriate by the Secretary, in consultation with appropriate entities.

1. What non-traditional and innovative approaches and treatment practices should VA determine to be appropriate to be provided under this grant program?

Signing Authority

Denis McDonough, Secretary of Veterans Affairs, approved this document on May 5, 2021, and authorized the undersigned to sign and submit the document to the Office of the Federal Register for publication electronically as an official document of the Department of Veterans Affairs.

Jeffrey M. Martin,
Assistant Director, Office of Regulation Policy & Management, Office of the Secretary, Department of Veterans Affairs.

[FR Doc. 2021-09956 Filed 5-10-21; 8:45 am]

BILLING CODE 8320-01-P